DEPARTMENT OF STATE

[Public Notice 7669]

60-Day Notice of Proposed Information Collection: DS-5520, Supplemental Questionnaire To Determine Identity for a U.S. Passport, 1405-XXXX

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Supplemental Questionnaire to Determine Identity for a U.S. Passport

• OMB Control Number: None

• Type of Request: Existing Collection in Use Without an OMB Control Number

• Originating Office: Bureau of Consular Affairs, Passport Services, Office of Project Management and Operational Support, Program Coordination (CA/PPT/PMO/PC)

• Form Number: DS-5520

• Respondents: Individuals applying for a U.S. passport

• Estimated Number of Respondents: 69,011

• Estimated Number of Responses: 69,011

• Average Hours per Response: 45 Minutes

• Total Estimated Burden: 51,758 hours

• Frequency: On occasion

• Obligation To Respond: Required to Obtain a Benefit

DATES: The Department will accept comments from the public up to 60 days from November 1, 2011.

ADDRESSES: You may submit comments by any of the following methods:

• Email: PPTFormsOfficer@state.gov

• Mail (paper, disk, or CD-ROM submissions): Passport Services, Passport Forms Management and Officer, U.S. Department of State, Office of Program Management and Operational Support, 2201 C Street NW., Washington, DC 20520

• Fax: (202) 736-9202

• Hand Delivery or Courier: Passport Services, Passport Forms Management and Officer, U.S. Department of State, Office of Program Management and Operational Support, 2201 C Street NW., Washington, DC 20520.

You must include the DS form number (if applicable), information collection title, and OMB control number in any correspondence.

FOR FURTHER INFORMATION CONTACT: Direct requests for additional information regarding the collection listed in this notice, including requests for copies of the proposed information collection and supporting documents, Passport Services, Passport Forms Management and Officer, U.S. Department of State, Office of Program Management and Operational Support, 2201 C Street NW., Washington, DC 20520, who may be reached on (202) 663-2457 or at PPTFormsOfficer@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

The primary purpose for soliciting this information is to validate an identity claim for a U.S. Passport Book or Passport Card in the narrow category of cases in which the evidence presented by an applicant is insufficient to establish identity. The information may also be used in adjudicating applications for other travel documents and services, and in connection with law enforcement, fraud prevention, border security, counterterrorism, litigation activities, and administrative purposes.

Methodology:

The Supplemental Questionnaire to Determine Identity for a U.S. Passport is intended to verify the respondent's identity for purposes of determining eligibility for a U.S. passport. This form is used to supplement an existing passport application and solicits information relating to the respondent's employment and residences that is needed to corroborate an applicant's identity claim prior to passport issuance.

Dated: October 6, 2011.
Brenda S. Sprague,
Deputy Assistant Secretary for Passport Services, Bureau of Consular Affairs, Department of State.

[FR Doc. 2011-28272 Filed 10-31-11; 8:45 am]

BILLING CODE 4710-06-P